DEPARTMENT OF JUSTICE

Notice of Lodging of Settlement Agreement Under the Comprehensive Environmental Response, Compensation, and Liability Act (CERCLA)

Notice is hereby given that on March 3, 2008, a proposed Settlement Agreement Regarding the Southeastern Missouri (SEMO) Mining District Sites was filed with the United States Bankruptcy Court for the Southern District of Texas in In re ASARCO, LLC, et al., No. 05-21207 (Bankr. S.D. Tex.). The SEMO Mining District Sites consist of the Big River Mine Tailings Site and the Federal Mine Tailings Site in St. Francois County; the Madison County Mines Site, including the Catherine Mine Subsite and the Little Saint Francis River Subsite, in Madison County; the Glover Smelter Site, in Iron County; and the Sweetwater Mine/Mill Site and the West Fork Mine/Mill Site, in Reynolds County. The proposed settlement provides the United States allowed general unsecured claims totaling $72.5 million to resolve past and future response cost and natural resource damage claims against ASARCO, LLC, for the SEMO Mining District Sites.

For thirty (30) days after the date of this publication, the Department of Justice will receive comments relating to the Settlement Agreement. Comments should be addressed to the Assistant Attorney General, Environment and Natural Resources Division, and either e-mailed to pubcomment-ees.enrd@usdoj.gov or mailed to P.O. Box 7611, U.S. Department of Justice, Washington, DC 20044-7611. In either case, comments should refer to In re Asarco, LLC, No. 05-21207 (Bankr. S.D. Tex.), D.J. Ref. No. 90-11-3-08633. In accordance with 42 U.S.C. 6973(d), commenters may request an opportunity for a public meeting in the affected area.

The proposed Settlement Agreement may be examined at the office of the United States Attorney for the Southern District of Texas, 800 North Shoreline Blvd., #500, Corpus Christi, TX 78476-2001; and at the Region 7 office of the United States Environmental Protection Agency, 901 North Fifth Street, Kansas City, KS 66101. During the comment period, the proposed Settlement Agreement may be examined on the following Department of Justice Web site: http://www.usdoj.gov/enrd/Consent_Decree.html. A copy of the proposed Settlement Agreement may be obtained by mail from the Department of Justice Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $3.75 for the Settlement Agreement (25 cents per page reproduction costs) payable to the United States Treasury or, if by e-mail or fax, forward a check in that amount to the Consent Decree Library at the stated address.

Robert E. Maher, Jr.,
Assistant Section Chief, Environmental Enforcement Section, Environment and Natural Resources Division.

[FR Doc. E8-4972 Filed 3-12-08; 8:45 am]

BILLING CODE 4410-15-P